NATIONAL AERONAUTICS AND SPACE ADMINISTRATION

[NASA Document Number: 26-011]

Categorical Exclusion Adoption Public Notice

AGENCY: National Aeronautics and Space Administration (NASA).

ACTION: Notice of adoption of categorical exclusions.

SUMMARY: In accordance with Section 109 of the National Environmental Policy Act (NEPA), NASA is adopting one or more categorical exclusions (CATEXs) established by the Federal Rail Administration (FRA), Department of Energy (DOE), National Telecommunications and Information Administration (NTIA), U.S. Coast Guard (USCG), U.S. Forest Service (USFS), Department of the Army (DA), Department of the Air Force (DAF), Department of the Navy, Missile Defense Agency (MDA), Defense Threat Reduction Agency (DTRA) and Federal Bureau of Investigation (FBI). These CATEXs cover actions of the same nature and scope as those originally reviewed by the originating agency or agencies. NASA has determined that applying them to similar NASA activities is appropriate and consistent with NEPA. This notice describes the categories of proposed actions for which NASA intends to use the CATEXs and describes the consultation between the agencies.

DATES: The categorical exclusion adoption is effective February 18, 2026.

FOR FURTHER INFORMATION CONTACT: Nick Murdock, NASA Headquarters, Environmental Management Division, National Aeronautics and Space Administration (NASA), by phone at 321-338-6816 or by email at nicholas.a.murdock@nasa.gov.

SUPPLEMENTARY INFORMATION:

I. Background

NEPA and CATEXs

NEPA, 42 U.S.C. 4321-4347, as amended, requires all Federal agencies to assess the environmental impact of their actions. Congress enacted NEPA to encourage productive and enjoyable harmony between humans and the environment, recognizing the profound impact of human activity and the importance of restoring and maintaining environmental quality to the overall welfare of humankind. NEPA's twin aims are to ensure agencies consider the environmental effects of their proposed actions in decision-making processes and to inform and involve the public in those processes.

In accordance with NEPA, agencies determine the appropriate level of environmental review—an environmental impact statement (EIS), environmental assessment (EA), or categorical exclusion (CATEX). If a proposed action is likely to have reasonably foreseeable significant effects, the agency must prepare an EIS and document its decision in a record of decision. If the proposed action is not likely to have reasonably foreseeable significant environmental effects or if the effects are unknown, the agency may prepare an EA, which involves a more concise analysis and process than an EIS. Following the EA, if the action will have no significant effects, the agency issues a finding of no significant impact. However, if the EA shows likely significant effects that cannot be mitigated, an EIS is required.

Under NEPA, a federal agency may also establish CATEXs—categories of actions that normally do not have significant effects on the quality of the human environment—in their agency NEPA procedures. If a proposed action falls within a CATEX, the agency evaluates whether any extraordinary circumstances exist that indicate a normally excluded agency action is likely to have a reasonably foreseeable significant adverse effect. If no such circumstances exist, the CATEX can be applied without further NEPA review. If extraordinary circumstances are present that cannot be mitigated, an EA or EIS may be required.

Section 109 of NEPA allows a federal agency to adopt or use another agency's (“establishing agency”) CATEX for a category of proposed actions. To do so, the adopting agency must identify the relevant CATEX from the other agency's NEPA procedures that covers its proposed actions; consult with the establishing agency to ensure appropriateness of the adoption; notify the public of the CATEX adoption; and document the adoption.

This notice documents and notifies the public of NASA's adoption of 18 CATEXs established by other federal agencies to use in NASA's programs and funding opportunities. The adopted CATEXs include: B3.11, B4.12, B5.5, and B5.16 established by the DOE at Appendix B to Part 1021, Title 10 and in Appendix B of DOE's NEPA Implementing Procedures; ¹ L22 and L23 established by the USCG at Table 3-1 of the Environmental Planning Implementing Procedures; (c)(20) and (c)(21) established by the FRA at 23 CFR 771.116; USDA-40d-USFS established by the USFS; CATEX 13, CATEX 18 and CATEX 19 established by the MDA at Appendix A of the Department of Defense (DoD) NEPA Implementing Procedures; CATEX 21 established by the DTRA at Appendix A of the Department of Defense (DoD) NEPA Implementing Procedures; CATEX 8 and CATEX 12 established by the DAF at Appendix A of the Department of Defense (DoD) NEPA Implementing Procedures; CATEX 23 established by the DON at Appendix A of the Department of Defense (DoD) NEPA Implementing Procedures; B-4 established by the NTIA at Guidance on NTIA National Environmental Policy Act Compliance; and (R5) established by the FBI at Appendix E to Part 61, Title 28.

¹ https://www.energy.gov/nepa/articles/doe-nepa-implementing-procedures-june-2025

II. Identification of the Categorical Exclusions

NASA has identified the following CATEXs for adoption:

DOE Categorical Exclusions for Adoption

NASA has identified B3.11 at Appendix B to Part 1021, Title 10 for adoption, “Outdoor tests and experiments for the development, quality assurance, or reliability of materials and equipment (including, but not limited to, weapon system components) under controlled conditions. Covered actions include, but are not limited to, burn tests (such as tests of electric cable fire resistance or the combustion characteristics of fuels), impact tests (such as pneumatic ejector tests using earthen embankments or concrete slabs designated and routinely used for that purpose), or drop, puncture, water-immersion, or thermal tests. Covered actions would not involve source, special nuclear, or byproduct materials, except encapsulated sources manufactured to applicable standards that contain source, special nuclear, or byproduct materials may be used for nondestructive actions such as detector/sensor development and testing and first responder field training.” NASA intends to use the CATEX for vehicle and propellant drop tests, which are essential for validating landing systems of spacecraft and aircraft, cryogenic fuel behavior, microgravity research, impact modeling, and structural integrity.

NASA has identified B4.12 at Appendix B to Part 1021, Title 10 for adoption, “Construction of electric powerlines approximately 10 miles in length or less, or approximately 20 miles in length or less within previously disturbed or developed powerline or pipeline rights-of-way.” NASA intends to use the CATEX for upcoming power projects at multi-user spaceports with continuously changing power needs that would include new transmission line infrastructure (electric lines, substations, transformers, etc.) to support launch activities and their associated infrastructure (manufacturing, administration, and processing facilities, etc.).

NASA has identified B5.5 at Appendix B to Part 1021, Title 10 for adoption, “Construction and subsequent operation of short (generally less than 20 miles in length) pipeline segments conveying materials (such as air, brine, carbon dioxide, geothermal system fluids, hydrogen gas, natural gas, nitrogen gas, oil, produced water, steam, and water) between existing source facilities and existing receiving facilities (such as facilities for use, reuse, transportation, storage, and refining), provided that the pipeline segments are within previously disturbed or developed rights-of-way.” NASA intends to use the CATEX for the construction and maintenance of pipelines supporting launch operations, including gas lines conveying materials to launch complexes and processing facilities from gas farms and other source facilities. This CATEX would also be applicable to the construction, replacement, and maintenance of chilled and hot water lines. These activities would be conducted entirely within the existing operational right-of-way.

NASA has identified B5.16 at Appendix B to Part 1021, Title 10 for adoption, “(a) The installation, modification, operation, or decommissioning of commercially available solar photovoltaic systems:(1) Located on a building or other structure (such as rooftop, parking lot or facility, or mounted to signage, lighting, gates, or fences); or (2) Located within a previously disturbed or developed area. (b) Covered actions would be in accordance with applicable requirements (such as land use and zoning requirements) in the proposed project area and the integral elements listed at the start of appendix B of this part, and would be consistent with applicable plans for the management of wildlife and habitat, including plans to maintain habitat connectivity, and incorporate appropriate control technologies and best management practices.” NASA intends to use the CATEX to expedite ongoing photovoltaic projects (e.g., Energy Savings Performance Contracts).

USCG Categorical Exclusions for Adoption

NASA has identified L22 at Table 3-1 of the Environmental Planning Implementing Procedures for adoption, “Determination by the Coast Guard that Coast Guard controlled personal property, including vessels and aircraft, is “excess property”, as that term is defined in the Federal Property and Administrative Services Act of 1949 (40 U.S.C. 472(e)), and any subsequent transfer of such property to another federal agency's administrative control or conveyance of the United States' title in such property to a non-federal entity.” NASA intends to use the CATEX for the transfer of aging aircraft and vessels upon their decommissioning and discontinued use.

NASA has identified L23 at Table 3-1 of the Environmental Planning Implementing Procedures for adoption, “Decisions to decommission or temporarily discontinue use of equipment: *L23(a) Decisions to decommission or temporarily discontinue use of vessels and aircraft. This does not preclude the need to review decommissioning under Section 106 of the National Historic Preservation Act. L23(b) Decisions to decommission or temporarily discontinue use of equipment, not including vessels or aircraft. This does not preclude the need to review decommissioning under Section 106 of the National Historic Preservation Act.” NASA intends to use the CATEX for the decommissioning and discontinued use of aging aircraft and vessels. Because this CATEX has a higher possibility of involving extraordinary circumstances, NASA requires a REC to be prepared to document the consideration of those circumstances.

FRA Categorical Exclusions for Adoption

NASA has identified (c)(20) at 23 CFR 771.116 for adoption, “Environmental restoration, remediation, pollution prevention, and mitigation activities conducted in conformance with applicable laws, regulations and permit requirements, including activities such as noise mitigation, landscaping, natural resource management activities, replacement or improvement to storm water oil/water separators, installation of pollution containment systems, slope stabilization, and contaminated soil removal or remediation activities.” NASA intends to use the CATEX for sites with ongoing remediation activities.

NASA has identified (c)(21) at 23 CFR 771.116 for adoption, “Assembly or construction of facilities or stations that are consistent with existing land use and zoning requirements, do not result in a major change in traffic density on existing rail or highway facilities, and result in approximately less than ten acres of surface disturbance, such as storage and maintenance facilities, freight or passenger loading and unloading facilities or stations, parking facilities, passenger platforms, canopies, shelters, pedestrian overpasses or underpasses, paving, or landscaping.” NASA intends to use the CATEX for future upgrades as part of master planning efforts such as wildlife corridors, culvert upgrades, and landscaping expansions.

USFS Categorical Exclusion for Adoption

NASA has identified USDA-40d-USFS adoption, “Restoring wetlands, streams, riparian areas or other water bodies by removing, replacing, or modifying water control structures such as, but not limited to, dams, levees, dikes, ditches, culverts, pipes, drainage tiles, valves, gates, and fencing, to allow waters to flow into natural channels and floodplains and restore natural flow regimes to the extent practicable where valid existing rights or special use authorizations are not unilaterally altered or canceled. Examples include but are not limited to: (i) Repairing an existing water control structure that is no longer functioning properly with minimal dredging, excavation, or placement of fill, and does not involve releasing hazardous substances; (ii) Installing a newly-designed structure that replaces an existing culvert to improve aquatic organism passage and prevent resource and property damage where the road or trail maintenance level does not change; (iii) Removing a culvert and installing a bridge to improve aquatic and/or terrestrial organism passage or prevent resource or property damage where the road or trail maintenance level does not change; and (iv) Removing a small earthen and rock fill dam with a low hazard potential classification that is no longer needed..” NASA intends to use the CATEX for repairing, replacing, or modifying existing water control structures to restore natural flow regimes to the extent practicable.

MDA Categorical Exclusions for Adoption

NASA has identified CATEX 13 established by the MDA at Appendix A of the Department of Defense (DoD) NEPA Implementing Procedures for adoption, “Acquisition, installation, modification, routine repair and replacement, and operation of utility (e.g., water, sewer, and electrical) and communication systems, mobile antennas, data processing cable and similar electronic equipment that use existing rights-of-way, easements, distribution systems, facilities, or previously disturbed land (REC required).” NASA intends to use the CATEX for the replacement of aging infrastructure, including updating and installing systems, electric grid upgrades, antenna replacements, and sewer line upgrades.

NASA has identified CATEX 18 established by the MDA at Appendix A of the Department of Defense (DoD) NEPA Implementing Procedures for adoption, “New construction or equipment installation or alterations (interior and exterior) to or construction of an addition to an existing structure that is similar to existing land use if the area to be disturbed has no more than 5.0 cumulative acres of new surface disturbance. The following conditions must be met a. The structure and proposed use are compatible with applicable Federal, tribal, state, and local planning and zoning standards. b. The site and scale of construction or improvement is consistent with those of existing, adjacent, or nearby buildings. c. The construction or improvement will not result in uses that exceed existing support infrastructure capacities (roads, sewer, water, parking, etc.).” NASA intends to use the CATEX for implementing master plans, including consolidation of separate use buildings into multi-function buildings.

NASA has identified CATEX 19 established by the MDA at Appendix A of the Department of Defense (DoD) NEPA Implementing Procedures for adoption, “Demolition of non-historic buildings, structures, or other improvements and repairs that result in disposal of debris therefrom, or removal of a part thereof for disposal, in accordance with applicable regulations, including those regulations applying to removal of ACM, PCBs, LBP, and other special hazard items (REC required). (See TAB D)” NASA plans to utilize the CATEX for several long-term projects originally outlined in center-specific Master Plans. Many of these projects involve asbestos abatement, and adopting this CATEX will help streamline NEPA compliance for those efforts.

Defense Threat Reduction Agency

NASA has identified CATEX 21 established by the DTRA at Appendix A of the Department of Defense (DoD) NEPA Implementing Procedures for adoption, “Routine installation and use of radars, telemetry systems, communications equipment, and other essentially similar facilities and equipment within a launch facility, mobile platform, military installation, training area, or previously disturbed area that conform to current American National Standards Institute/Institute of Electrical and Electronics Engineers (ANSI/IEEE) guidelines for maximum permissible exposure to electromagnetic fields.” NASA intends to use the CATEX for the installation of small radar systems for research purposes, including the local tracking of aircraft and unmanned aerial systems.

DAF Categorical Exclusions for Adoption

NASA has identified CATEX 8 established by the DAF at Appendix A of the Department of Defense (DoD) NEPA Implementing Procedures for adoption, “Performing interior and exterior construction within the 5-foot line of a building without changing the land use of the existing building.” NASA intends to use the CATEX for the installation of tanks, generators, utility boxes, other ancillary and support systems, and equipment associated with existing buildings.

NASA has identified CATEX 12 established by the DAF at Appendix A of the Department of Defense (DoD) NEPA Implementing Procedures for adoption, “Installing, operating, modifying, and routinely repairing and replacing utility and communications systems, data processing cable, and similar electronic equipment that use existing rights of way, easements, distribution systems, or facilities.” NASA intends to use the CATEX for repair and replacement actions in developed, non-sensitive areas previously disturbed by utility installation.

DON Categorical Exclusion for Adoption

NASA has identified CATEX 23 established by the DON at Appendix A of the Department of Defense (DoD) NEPA Implementing Procedures for adoption, “Hosting or participating in public events (e.g., air shows, open houses, Earth Day events, and athletic events) where no permanent changes to existing infrastructure (e.g., road systems, parking, and sanitation systems) are required to accommodate all aspects of the event.” NASA intends to use the CATEX for hosting or participating in public events, including launch-viewing and media events, astronaut presentations, operational demonstrations, and other events held at visitor centers.

NTIA Categorical Exclusion for Adoption

NASA has identified B-4 at Guidance on NTIA National Environmental Policy Act Compliance for adoption, “Abatement of hazardous materials from existing facilities, including asbestos and lead-based paint, conducted in compliance with all applicable laws, regulations, and requirements established for the protection of human health and the environment. Examples include containment, removal, and disposal of lead-based paint or asbestos tiles and asbestos-containing materials from existing facilities, and remediation of hazardous materials in accordance with all applicable laws, regulations, and requirements as part of facility and space management activities.” NASA intends to use the CATEX for the abatement of hazardous materials from aging infrastructure in accordance with master planning efforts.

FBI Categorical Exclusion for Adoption

NASA has identified (R5) at Appendix E to Part 61, Title 28 for adoption, “Renovation, addition, repair, alteration, and demolition projects affecting buildings, roads, airfields, grounds, equipment, and other facilities, including subsequent disposal of debris, which may be contaminated with hazardous materials such as PCBs, lead, or asbestos. Hazardous materials shall be disposed of at approved sites in accordance with Federal, State, and local regulations.” NASA intends to use the CATEX for the abatement of hazardous materials from aging infrastructure in accordance with master planning efforts.

III. Consideration of Extraordinary Circumstances

Circumstances may arise in which usually categorically excluded actions may have a significant environmental impact and, therefore, may generate a requirement for further environmental analysis (i.e., extraordinary circumstances). When applying these categorical exclusions, NASA will evaluate the proposed action for whether there are any extraordinary circumstances. If an extraordinary circumstance, or circumstances, exists, NASA will determine whether the proposed action has the potential to result in a reasonably foreseeable significant environmental impact before applying the adopted CATEX, or proceed with preparation of an EIS or EA as appropriate.

DOE Extraordinary Circumstances

The DOE's list of extraordinary circumstances can be found at 10 CFR 1021.102(b)(2) and in DOE's NEPA Implementing Procedures Section 5.4(c)(3). For example, at 10 CFR 1021.102(b)(2), DOE's extraordinary circumstances are as follows:

“Extraordinary circumstances are unique situations presented by specific proposals, including, but not limited to, scientific controversy about the environmental effects of the proposal; uncertain effects or effects involving unique or unknown risks; and unresolved conflicts concerning alternative uses of available resources.”

NASA also acknowledges the DOE's integral elements, found at Appendix B to Part 1021, Title 10, and in Appendix B to DOE's NEPA Implementing Procedures, and the requirement to evaluate, before use of any of the adopted DOE appendix B CATEXs, the conditions listed as integral elements. To fit within the CATEX, a proposal must be one that would not:

“(1) Threaten a violation of applicable statutory, regulatory, or permit requirements for environment, safety, and health, or similar requirements of DOE or Executive Orders.

(2) Require siting and construction or major expansion of waste storage, disposal, recovery, or treatment facilities (including incinerators), but the proposal may include categorically excluded waste storage, disposal, recovery, or treatment actions or facilities.

(3) Disturb hazardous substances, pollutants, contaminants, or CERCLA-excluded petroleum and natural gas products that preexist in the environment such that there would be uncontrolled or unpermitted releases.

(4) Have the potential to cause significant impacts on environmentally sensitive resources. An environmentally sensitive resource is typically a resource that has been identified as needing protection through Executive Order, statute, or regulation by Federal, state, or local government, or a Federally recognized Indian tribe. An action may be categorically excluded if, although sensitive resources are present, the action would not have the potential to cause significant impacts on those resources (such as construction of a building with its foundation well above a sole-source aquifer or upland surface soil removal on a site that has wetlands). Environmentally sensitive resources include, but are not limited to:

(i) Property (such as sites, buildings, structures, and objects) of historic, archeological, or architectural significance designated by a Federal, state, or local government, federally recognized Indian tribe, or Native Hawaiian organization, or property determined to be eligible for listing on the National Register of Historic Places.

(ii) Federally-listed threatened or endangered species or their habitat (including critical habitat) or Federally-proposed or candidate species or their habitat (Endangered Species Act); state-listed or state-proposed endangered or threatened species or their habitat; Federally-protected marine mammals and Essential Fish Habitat (Marine Mammal Protection Act; Magnuson-Stevens Fishery Conservation and Management Act); and otherwise Federally-protected species (such as the Bald and Golden Eagle Protection Act or the Migratory Bird Treaty Act).

(iii) Floodplains and wetlands (as defined in 10 CFR 1022.4, “Compliance with Floodplain and Wetland Environmental Review Requirements: Definitions,” or its successor).

(iv) Areas having a special designation such as Federally- and state-designated wilderness areas, national parks, national monuments, national natural landmarks, wild and scenic rivers, state and Federal wildlife refuges, scenic areas (such as National Scenic and Historic Trails or National Scenic Areas), and marine sanctuaries.

(v) Prime or unique farmland, or other farmland of statewide or local importance, as defined at 7 CFR 658.2(a), “Farmland Protection Policy Act: Definitions,” or its successor.

(vi) Special sources of water (such as sole-source aquifers, wellhead protection areas, and other water sources that are vital in a region).

(vii) Tundra, coral reefs, or rain forests.

(5) Involve genetically engineered organisms, synthetic biology, governmentally designated noxious weeds, or invasive species, unless the proposed activity would be contained or confined in a manner designed and operated to prevent unauthorized release into the environment and conducted in accordance with applicable requirements, such as those of the Department of Agriculture, the Environmental Protection Agency, and the National Institutes of Health.”

DOE defines the term “previously disturbed or developed” in Section 5.4(b) of DOE's NEPA implementing procedures and in 10 CFR 1021.102(g). NASA will review and apply this definition when using any of the adopted DOE CATEXs:

“Previously disturbed or developed” refers to land that has been changed such that its functioning ecological processes have been and remain altered by human activity. The phrase encompasses areas that have been transformed from natural cover to non-native species or a managed state, including, but not limited to, utility and electric power transmission corridors and rights-of-way, and other areas where active utilities and currently used roads are readily available.

USCG Extraordinary Circumstances

The USCG's list of extraordinary circumstances can be found at the Environmental Planning Implementing Procedures and are as follows:

“a. A potentially significant effect on public health or safety.

b. A potentially significant effect on species or habitats protected by the ESA, MMPA, MBTA, or Magnuson-Stevens Act.

c. A potentially significant effect on a district, site, highway, structure, or object that is listed in or eligible for listing in the National Register of Historic Places, affects a historic or cultural resource or traditional and sacred sites, or the loss or destruction of a significant scientific, cultural, or historical resource.

d. A potentially significant effect on an environmentally sensitive area.

e. A potential or threatened violation of an applicable federal, state, or local law or administrative determination imposed for the protection of the environment. Some examples of administrative determinations to consider are a local noise control ordinance; the requirement to conform to an applicable State Implementation Plan (SIP); and federal, state, or local requirements for the control of hazardous or toxic substances.

f. An effect on the quality of the human environment that is likely to be highly controversial in terms of scientific validity, likely to be highly uncertain, or likely to involve unique or unknown environmental risks.

g. Employment of new technology or unproven technology that is likely to involve unique or unknown environmental risks, where the effect on the human environment is likely to be highly uncertain, or where the effect on the human environment is likely to be highly controversial in terms of scientific validity.

h. Extent to which a precedent is established for future actions with significant effects.

i. Significantly greater scope or size than normally experienced for a particular category of action.

j. Potential for significant degradation of already existing poor environmental conditions. Also, initiation of a potentially significant environmental degrading influence, activity, or effect in areas not already significantly modified from their natural condition.

k. Whether the action is related to other actions with individually insignificant, but cumulatively significant impacts.”

FRA Unusual Circumstances

The FRA's list of unusual circumstances can be found at 23 CFR 771.116 and are as follows:

“(1) Significant environmental impacts.

(2) Substantial controversy on environmental grounds.

(3) Significant impact on properties protected by Section 4(f) requirements or Section 106 of the National Historic Preservation Act.

(4) Inconsistencies with any Federal, State, or local law, requirement or administrative determination relating to the environmental aspects of the action.”

USFS Resource Conditions

The USFS's list of resource conditions can be found at 7 CFR 1b.3 and are as follows:

“(i) Federally listed threatened or endangered species or designated critical habitat or species proposed for Federal listing or proposed critical habitat.

(ii) Flood plains, wetlands, or other such sensitive areas.

(iii) Special sources of water, such as sole-source aquifers, wellhead protection areas, municipal watersheds, or other water sources that are vital in a region.

(iv) Areas having formal Federal or state designations, such as wilderness areas, parks, or wildlife refuges; wild and scenic rivers; marine sanctuaries; national natural landmarks; inventoried roadless areas; or national recreation areas.

(v) Specially managed areas, such as designated research or experimental areas, coral reefs, coastal barrier resources, or, unless exempt, coastal zone management areas.

(vi) Important or prime agricultural, forest, or range lands.

(vii) Property (e.g., sites, buildings, structures, and objects) of historic, archeological, or architectural significance, as designated by Federal, Tribal, State, or local governments, or property eligible for listing on the National Register of Historic Places.”

Department of Defense Extraordinary Circumstances

The Department of Defense (DoD) list of extraordinary circumstances can be found at the DoD's NEPA Implementing Procedures and are as follows:

“(i) Potential for substantial adverse effect on public health, safety or the environment.

(ii) Potential to violate applicable Federal, State, Tribal, or local environmental laws.

(iii) Greater scope or size of project than usual for the category of action proposed.

(iv) Project poses uncertain, unknown, or unique risks to public health, safety, or the environment that are unlike those posed by typical actions in the excluded category.

(v) Project will result in an uncontrolled or unpermitted release of hazardous substances or require a conformity determination under standards in 40 CFR part 93, subpart B (the Clean Air Act General Conformity Rule).

(vi) Potential for substantial adverse effect on the following sensitive resources, unless the potential impact has been resolved through another environmental process (e.g., CZMA, NHPA, CWA, etc.).

(A)endangered or threatened species listed under the Endangered Species Act or designated critical habitat for these species.

(B)areas of particular environmental concern or sensitivity such as coral reefs, federally designated wilderness areas, wildlife refuges, marine sanctuaries and monuments, wetlands, sole source aquifers, or parklands.

(C) Have an adverse effect on archaeological resources or historic properties listed or determined to be eligible for listing in the National Register of Historic Places.”

NTIA's Extraordinary Circumstances

The NTIA's list of extraordinary circumstances can be found at Appendix C of Guidance on NTIA National Environmental Policy Act Compliance and are as follows:

“1. Proposed action occurs within an environmentally sensitive or unique geographic area of notable recreational, ecological, scientific, cultural, scenic, or aesthetic importance.

2. Proposed action may adversely impact species listed or proposed to be listed as Endangered or Threatened Species or have adverse effects on designated Critical Habitat for these species.

3. Proposed action may adversely impact protected migratory birds or their habitats.

4. Proposed action may adversely affect historic, archeological, or cultural sites, including Native American Traditional Cultural Properties, properties listed or eligible for listing on the National Register of Historic Places.

5. Proposed action that restricts access to and ceremonial use of Indian sacred sites by Indian practitioners or adversely affects the physical integrity of such religious sacred sites.

6. Proposed action occurring in floodplains or involving significant changes to or effects on waterbodies, wetlands, floodplains, water quality, sole source aquifers, public water supply systems, or state, local, or tribal water quality standards established under the Clean Water Act or the Safe Drinking Water Act.

7. (revoked)

8. Proposed action involving construction impacts on or near an active, inactive, or abandoned contaminated or hazardous waste site, or involving non-permitted generation, transportation, treatment, storage, or disposal of substances hazardous to human health or the environment, unless NTIA determines the action is consistent with an approved remedial action plan for the site.

9. Proposed action would involve human exposure to ionizing or non-ionizing radiation or use of any radiation more than the Federal Communications Commission's established Maximum Permissible Exposure limits for human exposure to Radiofrequency Electromagnetic Energy fields.

10. Proposed action would involve highly scientifically unknown or uncertain effects because of the introduction or employment of unproven technology, substantial disagreement over the possible size, nature, or effect on the environment, or likelihood of degrading already existing poor environmental conditions.

11. Proposed action may violate a Federal, Tribal, state, or local law, regulation, policy, or requirement imposed for the protection of the environment.

12. Proposed size or scope of action is greater than is normal for an action of its type.

13. Proposed action may cause other significant effects on human health or the environment that have not been otherwise addressed.”

FBI's Extraordinary Circumstances

The FBI's list of extraordinary circumstances can be found at Appendix E to Part 61, Title 28 and are as follows:

“(i) An adverse effect on public health or safety.

(ii) An adverse effect on federally listed endangered or threatened species, marine mammals, or critical habitat.

(iii) An adverse effect on archaeological resources or resources listed or determined to be eligible for listing in the National Register of Historic Places.

(iv) An adverse effect on an environmentally sensitive area, including floodplains, wetlands, streams, critical migration corridors, and wildlife refuges.

(v) A material violation of a Federal, state, or local environmental law by the FBI.

(vi) An effect on the quality of the human or natural environment that is likely to be highly scientifically controversial or uncertain, or likely to involve unique or unknown environmental risks.

(vii) Establishment of precedents or decisions in principle for future actions that have the potential for significant impacts (e.g., master plans, Integrated Natural Resource Management Plans, Integrated Cultural Resource Management Plans).

(viii) Significantly greater scope or size than normally experienced for a particular category of action.

(ix) Potential for substantial degradation of already existing poor environmental conditions. Also, initiation of a potentially substantial environmental degrading influence, activity, or effect in areas not already substantially modified.

(x) A connection to other actions with individually insignificant, but cumulatively significant, impacts.”

IV. Interagency Consultation

NASA consulted with the establishing agencies to ensure that adoption of the CATEXs for the intended category of actions is appropriate. NASA consulted with the FRA on August 11, 2025, the FBI on August 18, 2025, the DOE on August 22, 2025, the NTIA on August 22, 2025, the TVA on August 22, 2025, the USCG on August 29, 2025, the USFS on August 29, 2025, the DON on September 5, 2025, the DAF on December 15, 2025, the MDA on January 20, 2026 and the DTRA on January 26, 2026. NASA reviewed the originating agencies' experience with their respective CATEXs and consulted with them regarding the types of actions for which NASA intends to use these CATEXs. The consultations confirmed that the actions NASA plans to undertake are consistent with the types of projects for which the originating agencies have applied the CATEXs. NASA has determined that its proposed use of the CATEXs, as described in this notice, is appropriate. While this notice describes several examples, NASA's use of these CATEXs is not limited to these examples and could be used in any other circumstances for which their application is appropriate.

V. Notice to the Public and Documentation of Adoption

This notice serves to identify to the public and document NASA's adoption of the CATEXs described in this notice. The notice identifies the types of actions to which NASA will apply the CATEXs, as well as the considerations that NASA will use in determining whether an action is within the scope of the CATEXs.

Nanette Smith,
Team Lead, NASA Directives and Regulations.

[FR Doc. 2026-03109 Filed 2-17-26; 8:45 am]

BILLING CODE 7510-13-P